DEPARTMENT OF HOUSING AND URBAN DEVELOPMENT

[Docket No. FR-4631-FA-02]

Announcement of Funding Awards for Fiscal Year 2001 Community Development Work Study Program

AGENCY: Office of the Assistant Secretary for Policy Development and Research, HUD.

ACTION: Announcement of funding awards.

SUMMARY: In accordance with section 102(a)(4)(C) of the Department of Housing and Urban Development Reform Act of 1989, this document notifies the public of funding awards for the Fiscal Year 2001 Community Development Work Study Program (CDWSP). The purpose of this document is to announce the names and addresses of the award winners and the amount of the awards to be used to attract economically disadvantaged and minority students to careers in community and economic development, community planning and community management, and to provide a cadre of well-qualified professionals to plan, implement, and administer local community development programs.

FOR FURTHER INFORMATION CONTACT: Jane Karadbil, Office of University Partnerships, U.S. Department of Housing and Urban Development, Room 8110, 451 Seventh Street, SW., Washington, DC 20410, telephone (202) 708-1537, extension 5918. To provide service for persons who are hearing- or speech-impaired, this number may be reached via TTY by dialing the Federal Information Relay Service on (800) 877-8399, or 202-708-1455. (Telephone numbers, other than the two “800” numbers, are not toll free.)

SUPPLEMENTARY INFORMATION: The CDWSP is administered by the Office of University Partnerships under the Assistant Secretary for Policy Development and Research. The Office of University Partnerships administers HUD's ongoing grant programs to institutions of higher education and creates initiatives through which colleges and universities can bring their traditional missions of teaching, research, service, and outreach to bear on the pressing local problems in their communities.

The CDWSP was enacted in the Housing and Community Development Act of 1988. (Earlier versions of the program were funded by the Community Development Block Grant Technical Assistance Program from 1982 through 1987 and the Comprehensive Planning Assistance Program from 1969 through 1981.) Eligible applicants include institutions of higher education having qualifying academic degrees, and States and areawide planning organizations who apply on behalf of such institutions. The CDWSP funds graduate programs only. Each participating institution of higher education is funded for a minimum of three students and a maximum of five students under the CDWSP. The CDWSP provides each participating student up to $9,000 per year for a work stipend (for internship-type work in community building) and $5,000 per year for tuition and additional support (for books and travel related to the academic program). Additionally, the CDWSP provides the participating institution of higher education with an administrative allowance of $1,000 per student per year.

The Catalog of Federal Domestic Assistance number for this program is 14.512.

On November 29, 2000 (65 FR 71228) HUD published a Notice of Funding Availability (NOFA) announcing the availability of $3 million in FY 2000 funds for the CDWSP. The Department reviewed, evaluated and scored the applications received based on the criteria in the NOFA. As a result, HUD has funded the applications announced below, and in accordance with Section 102(a)(4)(C) of the Department of Housing and Urban Development Reform Act of 1989 (103 Stat. 1987, U.S.C. 3545), the Department is publishing details concerning the recipients of funding awards, as set forth below.

List of Awardees for Grant Assistance Under the FY 2001 Community Development Work Study Program Funding Competition, By Name, Address, Phone Number, Grant Amount and Number of Students Funded

New England

1. Massachusetts Institute of Technology, Professor Langley C. Keyes, Massachusetts Institute of Technology, Department of Urban Studies & Planning, 77 Massachusetts Avenue, Cambridge, MA 02139, (617) 253-1540. Grant: $90,000, to fund three students.

2. New Hampshire College, Dr. Michael Swack, New Hampshire College, 2500 N. River Road, Manchester, NH 03102, (603) 644-3125. Grant: $90,000 to fund three students.

New York/New Jersey

3. Rutgers University, Dr. Lisa Servon, Rutgers University, 33 Livingston Avenue, Suite 300, New Brunswick, NJ 08901, (732) 932-5475. Grant: $90,000 to fund three students.

4. State University of New York-Buffalo, Dr. Henry L. Taylor, Jr., Center for Urban Studies, 101C Fargo Quad, Building 1, Ellicott Complex, Buffalo, NY 14261, (716) 829-2133, ext. 212. Grant: $90,000 to fund three students.

5. New School University, Dr. Susan Morris, New School University, 66 West 12th Street, New York, NY 10011, (212) 229-5311, ext. 1106. Grant: $90,000 to fund three students.

Mid-Atlantic

6. Carnegie Mellon University, Dr. Barbara Brewton, Carnegie Mellon University, H. John Heinz III School of Public Policy and Management, 5000 Forbes Avenue, Pittsburgh, PA 15213, (412) 268-2162. Grant: $90,000 to fund three students.

7. University of Pennsylvania, Sandra Houck, University of Pennsylvania, 133 South 36th Street, Mezzanine, Philadelphia, PA 19104, (215) 573-6710. Grant: $90,000 to fund three students.

8. University of Pittsburgh, Dr. David Miller, University of Pittsburgh, 350 Thackeray Hall, Pittsburgh, PA 15260, (412) 648-2605. Grant: $90,000 to fund three students.

9.Washington Council of Governments, Kristin O'Connor, Washington Council of Governments, 777 North Capitol Street, NE, Washington DC 20002, (202) 962-3278. Grant: $360,000 to fund three students each at the University of Maryland, the University of the District of Columbia, Howard University, and George Mason University.

Southeast

10. Alabama A&M University, Dr. Constance J. Wilson, Alabama A&M University, P.O. Box 411, Normal, AL 35762, (256) 851-5425. Grant: $90,000 to fund three students.

11. University of Alabama at Birmingham, Janice Hitchcock, University of Alabama at Birmingham, OB 15 Room 141, 1530 3rd Avenue South, Birmingham, AL 35294, (205) 934-3500. Grant: $90,000 to fund three students.

12. Savannah State University, Dr. Shirley Geiger, Savannah State University, P.O. Box 20385, Savannah, GA 31404, (912) 356-2340. Grant: $90,000 to fund three students.

13. Eastern Kentucky University, Dr. Terry Busson, Eastern Kentucky University, 113 McCreary Hall, Richmond, KY 40475, (606) 622-1019. Grant: $90,000 to fund three students.

14. Duke University, Donna Dyer, Duke University, P.O. Box 90239, Durham, NC 27708, (919) 613-7383. Grant: $90,000 to fund three students.

15. University of North Carolina at Chapel Hill, Dr. William Rohe, University of North Carolina at Chapel Hill, CB#4100, Room 300-Bynum Hall, Chapel Hill, NC 27599, (909) 962-3077. Grant: $88,470 to fund three students.

16. Clemson University, Dr. M. Grant Cunningham, Clemson University, 131 Lee Hall, Box 340511, Clemson, SC 29634, (864) 656-1587. Grant: $87,555 to fund three students.

17. University of Tennessee at Chattanooga, Dr. Diane Miller, University of Tennessee at Chattanooga, Office of Graduate Studies, 615 McCallie Avenue, Chattanooga, TN 37403, (423) 755-4431. Grant: $90,000 to fund three students.

Midwest

18. Southern Illinois University Edwardsville, Dr. T.R. Carr, Southern Illinois University Edwardsville, Campus Box 1046, Edwardsville, IL 62026, (618) 650-3762. Grant: $90,000 to fund three students.

19. University of Chicago, Dr. Nancy O'Connor, University of Chicago, 5801 S. Ellis Street, Chicago, IL 60637, (773) 834-0136. Grant: $90,000 to fund three students.

20. Minnesota State University, Mankato, Perry Wood, Minnesota State University, Mankato, Mankato, MN 56001, (507) 389-6949. Grant: $90,000 to fund three students.

21. Cleveland State University, Frances Hunter, Cleveland State University, 1983 East 24th Street, Cleveland, OH 44115, (216) 687-4589. Grant: $90,000 to fund three students.

22. University of Cincinnati, Dr. David Varady, University of Cincinnati, School of Planning, P.O. Box 21067, Cincinnati, OH 45221, (513) 556-0215. Grant: $90,000 to fund three students.

Southwest

23. Texas A&M University, Dr. Marlynn May, Texas A&M University, College Station, TX 77843, (979) 458-1328. Grant: $90,000 to fund three students.

24. Texas Tech University, Dr. Montgomery Van Wart, Texas Tech University, 203 Holden Hall, Lubbock, TX 79409, (806) 742-3125. Grant: $90,000 to fund three students.

Great Plains

25. Arkansas State University, Dr. Patrick Stewart, Arkansas State University, P.O. Box 1750, State University, AR 72467, (870) 972-3048. Grant: $85,440 to fund three students.

26. Kansas State University, Dr. Larry Lawhon, Kansas State University, 2 Fairchild Hall, Manhattan, KS 66506, (785) 532-5961. Grant: $89,991 to fund three students.

Pacific

27. Northern Arizona University, Dr. Alan Lew, Northern Arizona University, Box 4130, Flagstaff, AZ 86011, (520) 523-2383. Grant: $74,111 to fund three students.

28. California Polytechnical Institute at San Luis Obispo, Dr. William Siembieda, California Polytechnical Institute at San Luis Obispo, One Grand Avenue, San Luis Obispo, CA 93407, (805) 756-1315. Grant: $88,800 to fund three students.

29. University of Southern California, Dr. Tridib Banerjee, University of Southern California, 380 Von KleinSmid Center, Los Angeles, CA 90089, (213) 740-4724. Grant: $90,000 to fund three students.

Northwest/Alaska

30. Eastern Washington University, Dr. William Kelley, Eastern Washington University, 210 Showalter Hall, Cheney, WA 99004, (509) 358-2226. Grant: $90,000 to fund three students.

31. University of Washington, Carol Zuiches, University of Washington, 3935 University Way NE, Seattle, WA 98105, (206) 543-4043. Grant: $90,000 to fund three students.

Dated: April 6, 2001.
Lawrence L. Thompson,
General Deputy Assistant, Secretary for Policy Development and Research

[FR Doc. 01-9308 Filed 4-13-01; 8:45 am]

BILLING CODE 4210-62-P